DEPARTMENT OF COMMERCE

International Trade Administration

[A-533-843), (A-570-901]

Certain Lined Paper Products from India and People's Republic of China: Extension of Time Limits for the Preliminary Results of Antidumping Duty Administrative Reviews

AGENCY: Import Administration, International Trade Administration, Department of Commerce.

FOR FURTHER INFORMATION CONTACT: Cindy Robinson or Stephanie Moore, AD/CVD Operations, Office 3, Import Administration, International Trade Administration, U.S. Department of Commerce, 14th Street and Constitution Ave, NW, Washington, DC 20230; telephone: (202) 482-3797 or (202) 482-3692, respectively.

SUPPLEMENTARY INFORMATION:

Background

On October 26, 2009, the U.S. Department of Commerce (“Department”) published a notice of initiation of both the administrative review of the antidumping duty order on certain lined paper products (CLPP) from India, and the administrative review of the antidumping duty order on CLPP from the People's Republic of China (PRC), covering the period September 1, 2008, to August 31, 2009. See Initiation of Antidumping and Countervailing Duty Administrative Reviews and Request for Revocation in Part, 74 FR 54956 (October 26, 2009). The preliminary results of these reviews are currently due no later than June 9, 2010.¹

¹ As explained in the memorandum from the Deputy Assistant Secretary for Import Administration, the Department has exercised its discretion to toll deadlines for the duration of the closure of the Federal Government from February 5, through February 12, 2010. Thus, all deadlines in this segment of the proceeding have been extended by seven days. The revised deadline for the preliminary results of these antidumping duty administrative reviews is now June 9, 2010. See Memorandum to the Record from Ronald Lorentzen, DAS for Import Administration, regarding "Tolling of Administrative Deadlines As a Result of the Government Closure During the Recent Snowstorm, “dated February 12, 2010.”

Extension of Time Limit of Preliminary Results

Section 751(a)(3)(A) of the Tariff Act of 1930, as amended (“the Act”), requires that the Department make a preliminary determination within 245 days after the last day of the anniversary month of an order for which a review is requested. Section 751(a)(3)(A) of the Act further states that if it is not practicable to complete the review within the time period specified, the administering authority may extend the 245-day period to issue its preliminary results to up to 365 days.

We determine that completion of the preliminary results of these two reviews within the 245-day period is not practicable for the following reasons. Specifically, the CLPP from India review covers two mandatory respondents, one of which has not been individually examined previously. Given the complexity of the issues associated with this case, the Department needs additional time to address these issues with the new respondent. The CLPP from the PRC review covers four respondents. The Department needs additional time to analyze issues regarding affiliation for one respondent, and another respondent's claim of no shipments during the period of review. Further, the Department needs additional time to gather and analyze a significant amount of information associated with affiliation, companies' sales practices, the manufacturing costs regarding one respondent, and the customs entry data regarding another respondent. Finally, domestic interested parties have raised other issues in the CLPP from the PRC review which require the collection of additional information. Given the number and complexity of issues in these cases, and in accordance with section 751(a)(3)(A) of the Act, we are fully extending the time period for issuing the preliminary results of these reviews by 120 days. Therefore, the preliminary results are now due no later than October 7, 2010. The final results continue to be due 120 days after publication of the preliminary results.

This notice is published pursuant to sections 751(a)(3)(A) and 777(i)(1) of the Act.

Dated: May 12, 2010.
John M. Andersen,
Acting Deputy Assistant Secretary for Antidumping and Countervailing Duty Operations.

[FR Doc. 2010-11872 Filed 5-17-10; 8:45 am]

BILLING CODE 3510-DS-S